DEPARTMENT OF TRANSPORTATION

Federal Aviation Administration

Notice of Opportunity for Public Comment on Change in Use of Aeronautical Property at Perry Foley Airport

AGENCY: Federal Aviation Administration (FAA), DOT.

ACTION: Request for public comment.

SUMMARY: The Federal Aviation Administration is requesting public comment on a request by the Taylor County, Florida to release federally obligated land from conditions of the Surplus Property Quitclaim Deed dated April 11, 1947 at the Perry Foley Airport, Perry, Florida. This property was transferred to Taylor County under the authority of the April 11th, 1947, the United States, War Assets Administration and Section 13 of the Surplus Property Act of 1944 (58 Stat. 765). The request includes five (5) parcels adjacent to the airport totaling approximately 17.28 acres. Fair market value of the commercial properties at time of sale was $94,470.

Documents reflecting the Sponsor's request are available, by appointment only, for inspection at the Perry Foley Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before April 27, 2020.

ADDRESSES: Documents are available for review at Perry Foley Airport, and the FAA Orlando Airports District Office, 8724 SouthPark Circle, Suite 524, Orlando, FL 32819. Written comments on the Sponsor's request must be delivered or mailed to: Pedro Blanco, Community Planner, FAA Orlando Airports District Office, 8724 SouthPark Circle, Suite 524, Orlando, FL 32819.

FOR FURTHER INFORMATION CONTACT: Pedro Blanco, Community Planner, FAA Orlando Airports District Office, 8724 SouthPark Circle, Suite 524, Orlando, FL 32819.

Revision Date 11/22/00.

Issued in Orlando, FL on March 19, 2020.
Bart Vernace,
Manager, Orlando Airports District Office, Southern Region.

[FR Doc. 2020-06324 Filed 3-25-20; 8:45 am]

BILLING CODE 4910-13-P